NATIONAL SCIENCE FOUNDATION

Notice of Permits Issued Under the Antarctic Conservation Act of 1978

AGENCY: National Science Foundation.

ACTION: Notice of permit issued.

SUMMARY: The National Science Foundation (NSF) is required to publish notice of permits issued under the Antarctic Conservation Act of 1978, Public Law 95-541. This is the required notice.

FOR FURTHER INFORMATION CONTACT: Nature McGinn, ACA Permit Officer, Office of Polar Programs, Rm. 755, National Science Foundation, 4201 Wilson Boulevard, Arlington, VA 22230. Or by email: ACApermits@nsf.gov.

SUPPLEMENTARY INFORMATION: On May 25, 2017, the National Science Foundation published a notice in the Federal Register of a permit application received. The permit was issued on August 2, 2017 to: Dr. William R. Fraser, Permit No. 2018-002.

Nadene G. Kennedy,
Polar Coordination Specialist, Office of Polar Programs.

[FR Doc. 2017-16907 Filed 8-10-17; 8:45 am]

BILLING CODE 7555-01-P